DEPARTMENT OF COMMERCE

National Oceanic and Atmospheric Administration

RIN: 0648-XF38

Western Pacific Regional Fishery Management Council; Public Meeting

AGENCY: National Marine Fisheries Service (NMFS), National Oceanic and Atmospheric Administration (NOAA), Commerce.

ACTION: Notice of public meeting.

SUMMARY: The 97th meeting of the Western Pacific Regional Fishery Management Council's (Council) Scientific and Statistical Committee (SSC) will convene Monday, March 3, 2008, through Thursday March 6, 2008. See SUPPLEMENTARY INFORMATION for specific times, dates, and agenda items.

ADDRESSES: The SSC meeting will be held at the Council Office Conference Room, 1164 Bishop St., Suite 1400, Honolulu, HI; telephone: (808) 522-8220.

FOR FURTHER INFORMATION CONTACT: Kitty M. Simonds, Executive Director; telephone: (808)-522-8220.

SUPPLEMENTARY INFORMATION:

Dates and Times and Locations

The SSC meeting will be held between 9 a.m. and 5 p.m. on Monday, March 3, 2008, and between 8:30 a.m. and 5 p.m. on Tuesday, Wednesday and Thursday, March 4-6, 2008.

Monday, March 3, 2008, 9 a.m.

1. Introductions

2. Approval of Draft Agenda and Assignment of Rapporteurs

3. Approval of the Minutes of the 96th SSC Meeting

4. Report from the Pacific Fisheries Science Center Director

5. Insular Fisheries

A. Update on Status of Main Hawaiian Islands (MHI) Bottomfish Management and Monitoring

1. Data Collection, Processing and Analysis

a. Catch Reports

b. Dealer Reports

c. Delinquencies

2. Review annual data by month for last three years

3. Federal regulations

4. State rules and regulations

5. Report on economic performance

B. Bottomfish Risk Assessment Model (Action Item)

C. In-Situ Recording of Hawaiian Deep Reef Slopes and Seamounts

D. Hawaii Parrotfish Population Biology

E. Public Comment

F. Discussion and Action

Tuesday, March 4, 2008, 8:30 a.m.

6. Pelagic Fisheries

A. Longline Management

1. Hawaii Swordfish Fishery Effort (Action Item)

2. Mariana Archipelago Longline and Purse-Seine Closed Areas (Action Item)

3. American Samoa Longline Program Modifications (Action Item)

B. Non-Longline Management

1. American Samoa Purse-Seine Closed Area (Action Item)

2. Non-Longline Pelagic Fishery Management (Action Item)

C. American Samoa and Hawaii Longline Quarterly Reports

D. Bycatch reduction strategies in the Hawaii LL fleet

E. International Fisheries/Meetings

1. Climate Impacts on Oceanic Top Predators (CLIOTOP)

2. Western & Central Pacific Fisheries Commission (WCPFC)

3. Inter-American Tropical Tuna Commission (IATTC)

4. North Pacific Regional Fishery Management Organization

5. South Pacific Regional Fishery Management Organization

6. International Scientific Committee Billfish Working Group

F. Public Comment

G. Discussion and Action

7. Ecological Risk Assessment Workshop Report

8. Marine Recreational Fisheries Information Program (MRIP)

9. Protected Species

A. Loggerhead Petition

B. Loggerhead Workshop report

C. Pelagic Fisheries Research Program Albatross Population Dynamics Workshop Report

D. Potential Listing of Blackfooted Albatross under Endangered Species Act (ESA)

E. Update on ESA consultations

Wednesday, March 5, 2008, 8:30 a.m.

10. Maximum Sustainable Yield (MSY) Proxies Workshop

Thursday, March 6, 2008, 8:30 a.m.

11. Program Planning

A. 5 Year Research Plan

B. Cooperative Research Program

C. Pelagic Fisheries Research Program

D. Annual Catch Limits

E. Magnuson-Stevens Reauthorization Act (MSRA) Ecosystem-based Management Workshop

12. Other Business

A. 98th SSC Meeting

13. Summary of SSC Recommendations to the Council

Special Accommodations

These meetings are physically accessible to people with disabilities. Requests for sign language interpretation or other auxiliary aids should be directed to Kitty M. Simonds, (808) 522-8220 (voice) or (808) 522-8226 (fax), at least 5 days prior to the meeting date.

Authority: 16 U.S.C.1801 et seq.

Dated: February 8, 2008.
Tracey L. Thompson,
Acting Director, Office of Sustainable Fisheries, National Marine Fisheries Service.

[FR Doc. E8-2650 Filed 2-12-08; 8:45 am]

BILLING CODE 3510-22-S